DEPARTMENT OF AGRICULTURE

Office of the Secretary

Notice of Request for Extension and Revision of a Currently Approved Information Collection: Advisory Committee and Research and Promotion Background Information

AGENCY: White House Liaison Office, Department of Agriculture.

ACTION: Notice and request for comments.

SUMMARY: This notice announces the U.S. Department of Agriculture's (USDA) intention to request an extension and a revision to the currently approved Advisory Committee and Research and Promotion Background Information AD-755 Supplemental List—Agricultural Marketing Service Commodity Specific Questionnaire. The revised form will now require applicants to indicate their U.S. citizenship status. The primary objective is to determine the qualifications, suitability, and availability of a candidate to serve on advisory committees and/or research and promotion boards.

DATES: Comments on this notice must be received by November 26, 2018 to be assured of consideration.

ADDRESSES: USDA invites interested persons to submit comments on this notice. Comments may be submitted through one of the following methods:

□ Federal eRulemaking Portal: This website provides the ability to type short comments directly into the comment field on this web page or attach a file for lengthier comments. Go to http://www.regulations.gov. Follow the online instructions at that site for submitting comments.

□ Mail, including CD-ROMs, etc.: White House Liaison Office, U.S. Department of Agriculture, 1400 Independence Avenue SW, the Whitten Building, Room 540-A, Washington, DC 20250-3700.

□ Hand- or courier-delivered submittals: Deliver to White House Liaison Office, U.S. Department of Agriculture, 1400 Independence Avenue SW, the Whitten Building, Room 540-A, Washington, DC 20250-3700.

Instructions: All items submitted by mail or electronic mail must include the agency name and docket number. Comments received in response to this notice will be made available for public inspection and posted without change, including any personal information, to http://www.regulations.gov.

FOR FURTHER INFORMATION CONTACT: Cikena Reid, Committee Management Officer, Office of the Secretary, U.S. Department of Agriculture, White House Liaison Office, 1400 Independence Avenue SW, the Whitten Building, Room 540-A, Washington, DC 20250; office phone: (202) 720-2406; email: Cikena.Reid@osec.usda.gov.

SUPPLEMENTARY INFORMATION:

In accordance with the Paperwork Reduction Act of 1995 (44 U.S.C. Chapter 35), this notice announces the U.S. Department of Agriculture's intention to request an extension for and a revision to the Advisory Committee and Research and Promotion Background Information collection form. The primary objective is to determine the qualifications, suitability, and availability of a candidate to serve on advisory committees and/or research and promotion boards.

Title: Advisory Committee and Research and Promotion Background Information.

OMB Number: 0505-0001.

Expiration Date of Approval: September 30, 2018.

Type of Request: Extension and Revision of a currently approved information collection document.

Abstract: The primary objective is to determine the qualifications, suitability, and availability of a candidate to serve on advisory committees and/or research and promotion boards. The information will be used to both conduct background clearances on the candidates and to compile annual reports regarding membership.

Estimate of Burden: Public reporting burden for this collection of information is estimated to average 30 minutes per response.

Respondents: Individuals.

Estimated Number of Respondents: 5,500.

Estimated Number of Responses per Respondent: One (1).

Estimated Total Annual Burden on Respondents: 5,958.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

Comments may be sent to Cikena Reid, Committee Management Officer, Office of the Secretary, U.S. Department of Agriculture, White House Liaison Office, 1400 Independence Avenue SW, the Whitten Building, Room 540-A, Washington, DC 20250; fax: (202) 720-9286; or email: Cikena.Reid@osec.usda.gov. Comments must be postmarked 10 business days prior to the deadline to ensure timely receipt.

All comments received will be available for public inspection during regular business hours at the same address.

All responses to this notice will be summarized and included in the request for OMB approval. All comments will become a matter of public record.

Dated: September 18, 2018.
Stephen L. Censky,
Deputy Secretary.

[FR Doc. 2018-20861 Filed 9-25-18; 8:45 am]

BILLING CODE 3410-01-P